NUCLEAR REGULATORY COMMISSION

[Docket Nos. 50-275 AND 50-323]

Pacific Gas and Electric Company Diablo Canyon Power Plant, Units 1 and 2 ; Notice of Withdrawal of Application for Amendment to Facility Operating License

The U.S. Nuclear Regulatory Commission (the Commission) has granted the request of Pacific Gas and Electric Company (the licensee) to withdraw its January 7, 2004, application for proposed amendment to Facility Operating License No. DPR-80 and Facility Operating License No. DPR-82 for the Diablo Canyon Power Plant, Unit Nos. 1 and 2, respectively, located in San Luis Obispo County, California.

The proposed amendments would have revised the Technical Specifications to allow application of 4-volt alternate repair criteria at intersections of the SG tube hot-legs with the four lowest SG tube support plates.

The Commission had previously issued a Notice of Consideration of Issuance of Amendment published in the Federal Register on February 3, 2004 (69 FR 5206). However, by letter dated May 13, 2005, the licensee withdrew the proposed changes. The licensee's application dated January 7, 2004, and withdrawal letter dated May 13, 2005 are available in the NRC's Agencywide Documents Access and Management System (ADAMS) under Accession Numbers ML040120619 and ML051440406, respectively.

For further details with respect to this action, see the application for amendment dated January 7, 2004, and the licensee's letter dated May 13, 2005, which withdrew the application for the license amendments. Documents may be examined, and/or copied for a fee, at the NRC's Public Document Room (PDR), located at One White Flint North, 11555 Rockville Pike (first floor), Rockville, Maryland. Publicly available records will be accessible electronically from the ADAMS Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this10th day of June 2005.
For the Nuclear Regulatory Commission.
Girija S. Shukla,
Project Manager, Section 2, Project Directorate IV, Division of Licensing Project Management, Office of Nuclear Reactor Regulation.

[FR Doc. E5-3088 Filed 6-15-05; 8:45 am]

BILLING CODE 7590-01-P